DEPARTMENT OF TRANSPORTATION

Surface Transportation Board

[STB Finance Docket No. 34911]

Montana Rail Link, Inc.—Trackage Rights Exemption—BNSF Railway Company

BNSF Railway Company (BNSF) has agreed to grant overhead trackage rights ¹ to Montana Rail Link, Inc. (MRL) over BNSF's rail lines extending from approximately milepost 51.07 at or near Garrison, MT, to approximately milepost 21.5, a location south of Warm Springs, MT, a distance of approximately 29.57 miles.

¹ On September 25, 2006, MRL filed a petition for exemption in STB Finance Docket No. 34911 (Sub-No. 1), Montana Rail Link, Inc.—Trackage Rights Exemption—BNSF Railway Company, wherein MRL and BNSF request that the Board permit the proposed overhead trackage rights arrangement described in the present proceeding to expire on or about December 31, 2010. That petition will be addressed by the Board in a separate decision.

The transaction was scheduled to be consummated on or before October 2, 2006. The purpose of the trackage rights is to allow for the movement of sediment from the Clark Fork River between Garrison and Missoula, MT (Milltown Dam Area), near Bonner, MT, to Opportunity Ponds, MT.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34911, must be filed with the Surface Transportation Board, 1925 K Street, NW., Washington, DC 20423-0001. In addition, a copy of each pleading must be served on Troy Garris, 1300 19th Street, NW., Fifth Floor, Washington, DC 20036.

Board decisions and notices are available on our Web site at http://www.stb.dot.gov.

Decided: October 5, 2006.
By the Board, David M. Konschnik, Director, Office of Proceedings.
Vernon A. Williams,
Secretary.

[FR Doc. E6-16949 Filed 10-12-06; 8:45 am]

BILLING CODE 4915-01-P